LIBRARY OF CONGRESS

Copyright Office

[Docket No. 99-3 CARP DD 95-98]

Distribution of 1995, 1996, 1997, and 1998 Digital Audio Recording Technology Royalties

AGENCY: Copyright Office, Library of Congress.

ACTION: Suspension of proceeding; Resumption of initiation of arbitration.

SUMMARY: The Copyright Office of the Library of Congress is announcing the suspension of the proceeding to distribute the 1995-98 digital audio recording technology (“DART”) royalties in the Musical Works Funds from May 16, 2000, to June 16, 2000. The 180-day arbitration period for the proceeding will resume on June 16, 2000.

EFFECTIVE DATE: June 16, 2000.

ADDRESSES: All hearings and meetings for the 1995-98 DART distribution proceeding shall take place in the James Madison Memorial Building, Room LM-414, First and Independence Avenue, SE, Washington, DC 20540.

FOR FURTHER INFORMATION CONTACT: David O. Carson, General Counsel, or Tanya M. Sandros, Senior Attorney, Copyright Arbitration Royalty Panel (“CARP”), P.O. Box 70977, Southwest Station, Washington, DC 20024. Telephone: (202) 707-8380. Telefax: (202) 252-3423.

SUPPLEMENTARY INFORMATION:

Background

On April 10, 2000, the Copyright Office published a notice in the Federal Register announcing that the initiation of the 180-day arbitration period for the distribution of the 1995-98 digital audio recording technology (“DART”) royalties in the Musical Works Funds would begin on April 10, 2000. 65 FR 19025 (April 10, 2000). The notice also announced the two arbitrators selected by the Librarian to serve on the Copyright Arbitration Royalty Panel (“CARP”) for the proceeding. In accordance with 17 U.S.C. 802(b), the two arbitrators selected a third arbitrator to serve as the chairperson of the panel. However, on May 25, 2000, the third arbitrator resigned from the position of chairperson out of concern that potential conflicts of interest, which were not known to the arbitrator at the time of selection, may exist under § 251.32. Because of these concerns, the Copyright Office canceled the initial meeting between the parties and the original panel of arbitrators that had been set for May 16, 2000.

Section 251.6(f) provides that when an arbitrator is unable to continue to serve on a CARP before the commencement of hearings in a proceeding, the Librarian “will suspend the proceeding.” The notice published today serves as notice that the proceeding is suspended from May 16, 2000, to June 16, 2000. The 180-day arbitration period will resume on June 16, 2000. Section 251.6(f) further provides that if the resulting vacancy was “previously occupied by the chairperson, the two remaining arbitrators shall select, the replacement from the arbitrator list, and the person chosen shall serve as chairperson.” Accordingly, the remaining two arbitrators selected a new chairperson.

Selection of Arbitrators

In accordance with § 251.64 of the CARP rules, the arbitrators selected for this proceeding are: The Honorable Cheryl I. Niro (Chairperson), The Honorable John B. Farmakides, The Honorable Harold Himmelman.

Initiation of the Proceeding

In accordance with § 251.8(a) of the CARP rules, which provides that a suspended proceeding will resume “from the time and point at which it was suspended,” the 180-day period to determine the distribution of the 1995-98 digital audio recording technology (“DART”) royalties in the Musical Works Funds, resumes on June 16, 2000. Thus, the 180-day period arbitration period recommences on June 16, 2000, and the arbitrators shall file their written report with the Librarian of Congress by November 13, 2000, in accordance with § 251.53 of 37 CFR.

A meeting between the participants in the distribution proceeding and the arbitrators shall take place on Monday, June 19, 2000, at 1 p.m. at the Library of Congress, James Madison Building, LM-414, First and Independence Avenue, SE, Washington, DC, to discuss the hearing schedule and any other procedural matters. The meeting is open to the public. Scheduling of the 1995-98 DART royalty distribution proceedings, as required by 37 CFR 251.11(b), as soon as it is available.

Dated: June 9, 2000.
David O. Carson,
General Counsel.

[FR Doc. 00-14976 Filed 6-13-00; 8:45 am]

BILLING CODE 1410-33-M